NATIONAL INSTITUTE FOR LITERACY

[CFDA NO. 84.257T]

NIFL Regional Technology Centers Project; Notice Inviting Applications for New Awards for Fiscal Year 2000

AGENCY: The National Institute for Literacy (NIFL).

ACTION: Notice.

Purpose:

The purpose of this project is to establish Regional Technology Centers that will work with the NIFL to:

1. Expand the Literacy Information and Communication System (LINCS) network to include the broadest possible range of national, state, and local partners.

2. Extend the knowledge and use of LINCS web sites, infrastructure, resources, and services throughout the state and local adult education and adult and family literacy communities in each region.

3. Assist the adult education and adult and family literacy community in integrating LINCS resources and new technology into teaching and staff development.

4. Enhance the literacy field's electronic knowledge base by creating, collecting, and organizing new high quality literacy information resources on-line, especially locally developed materials.

Each regional center will be expected to build on the achievements of the region's previous regional hub (where applicable), to work with a consortium of partners and affiliates in the region, and, in cooperation with them, to:

1. Build new partnerships at the regional, state and local level (expand the number of partners and affiliates).

2. Implement a comprehensive regional training plan for the use of LINCS and related technology. This plan is to result in the effective integration of technology in teaching and learning.

3. Market LINCS resources and services widely to various potential LINCS audiences, with a priority on adult education and adult and family literacy practitioners.

4. Implement a regional plan to locate and organize high quality resources, particularly for LINCS Special Collections, and facilitate the creation of new resources to meet target audience needs.

5. Connect increasingly larger numbers of literacy stakeholders of all kinds—researchers, practitioners, administrators, students, and policymakers.

6. Build evaluation tools and methods, based on the project's goals, that will show the impact of LINCS use in improving professional development and instruction.

7. Take advantage of the strengths and unique capabilities of each region, the regional training centers will work with each other and the NIFL to coordinate their activities, and whenever possible carryout joint activities, in order to maximize the total mount of resources available to LINCS and allow them to have the greatest impact possible.

Deadline for Applications: July 15, 2000.

Eligible Applicants

Public and private non-profit organizations with knowledge and expertise adult basic education, adult literacy, and family literacy, or consortia of such organizations.

Available Funds

This notice envisions a three-year cooperative agreement. In the first year, up to $150,000 is available for each of five grantees. Funding for years 2 and is subject to program authorization and availability of appropriations, and contingent upon satisfactory completion of the previous year's plan of action.

Estimated Number of Awards: 5 (one award in each region).

Estimated Award Amount: $150,000 for Year 1.

Note: The National Institute for Literacy is not bound by any estimates in this notice.

Project Period: Three years, with the possibility of renewal for 2 subsequent years.

Applicable Regulations

The National Institute for Literacy has adopted the following regulations included in the Education Department General Administrative Regulations (EDGAR): 34 CFR parts 74, 77, 80, 82, and 85, and 34 CFR part 75, Secs. 75.50, 75.51, 75.100-102, 75.104, 75.109-192, 75.200-201, 75.215-217, 75.231-236, 75.250-251, 75.253, 75.261, 75.525, 75.531, 75.560-569, 75.591, 75.620-21, 75.700-707; 75.77, 75.79, 75.80-82, 75.85-86 (36/6/1997 and EDGAR Expanded Authorities, 1/27/98).

This document is available through your public library and on the National Institute for Literacy web site at http://www.nifl.gov/. Appropriate administrative officials are advised to become familiar with the policies and procedures in the EDGAR that are applicable to this award. If a proposal is recommended for an award, the Grants Officer will request certain organizational, management, and financial information. Grant administration questions regarding General Requirements, Prior Approval Requirements, Transfer of Project Director, and Suspension or Termination of Award should be referred to the Grants Officer.

FOR FURTHER INFORMATION, CONTACT: Jaleh Behroozi Soroui; LINCS Director; National Institute for Literacy; 1775 I Street, NW., Suite 730; Washington, DC 20006; Telephone: 202-233-2039; FAX: 202-233-2050; E-mail: jbehroozi@nifl.gov. Information about NIFL's funding opportunities, including Application Notices, etc., can be viewed on the LINCS WWW server (under What's New and Grants & Funding) at http://www.nifl.gov/LINCS. However, the official application notice for a discretionary grant competition is the notice published in the Federal Register.

SUPPLEMENTARY INFORMATION:

Definitions

For purposes of this announcement, the following definitions apply:

Adult Education and Literacy Community—. The aggregate of individuals and groups at all levels nationwide that are actively involved with adult education and adult and family literacy instruction, including individuals such as researchers, practitioners, policymakers, adult learners, and administrators, and groups such as state and local departments of education, human services, and labor; libraries; community-based organizations; businesses and labor unions; and volunteer and civic groups.

LINCS Affiliates—National, state, or local organizations that support LINCS and want to be a part of the expanding LINCS network, but are not formal partners. (see details in appendix #1)

LINCS Network—LINCS national, regional, state, and local partners and affiliates.

LINCS Partners—State and, in some cases, national organizations that provide professional development, technical assistance, and other technology services to local programs. In the case of states, there may be more than one partner, depending on the needs of the state and the resources available, and decisions about the selection of the partners are made jointly with the state adult education office and other state-level organizations. Through a formal agreement with the regional LINCS Hub, state organizations will receive services and contribute to LINCS. (see details in appendix #1)

LINCS Standards—NIFL's guidelines and standards for organizing materials in a uniform format for posting on the Internet. These standards are found in NIFL's “Starting Point” manual, LINCS Selection Criteria, (http://www.nifl.gov/lincs/selection_criteria.html), LINCS Special Collections Guidelines (http://www.nifl.gov/lincs/special-collections.html), the Adult Literacy Thesaurus (ALT), the Adult Literacy Thesaurus User's Manual, and other documentation.

LINCS Web Sites—LINCS national, regional, and state home pages and Special Collections.

Literacy—An individual's ability to read, write, and speak in English, and compute and solve problems at levels of proficiency necessary to function on the job and in society, to achieve one's goals and develop one's knowledge and potential (as stated in the National Literacy Act of 1991).

Literacy Resource Centers, State Education Agencies—State or regional organizations supported through federal, state, or private funds for the purpose of coordinating the delivery and improvement of literacy services across agencies and organizations in the state or region, enhancing the capability of state and local organizations to provide literacy services, building a database of literacy-related information, and working closely with the NIFL and other national literacy organizations to enhance the national literacy infrastructure.

Regional Hubs or Regional Technology Centers—The lead site acting as the regional focal point for implementing LINCS grant requirements and activities, including serving states and local programs in that region.

Regional Library Team—As part of the Regional Technology Center work groups, the Regional Library Team include librarians from the region who work together in locating, organizing, and evaluating quality of resources contributed to the LINCS databases, based on the LINCS standards.

Regional Training Team—As part of the Regional Technology Center work groups the Regional training team(s) include trainers from partners and affiliates helping to enhance training capacity of the region through training trainers, providing technical assistance and resources.

Regions—Region I: Connecticut, Delaware, District of Columbia, Maine, Maryland, Massachusetts, New Hampshire, New Jersey, New York, Pennsylvania, Puerto Rico, Rhode Island, Vermont, Virgin Islands. Region II: Alabama, Arkansas, Florida, Georgia, Kentucky, Louisiana, Mississippi, North Carolina, Oklahoma, South Carolina, Tennessee, Texas, Virginia, West Virginia. Region III: Illinois, Indiana, Iowa, Kansas, Michigan, Minnesota, Missouri, Nebraska, North Dakota, Ohio, South Dakota, Wisconsin. Region IV: Arizona, California, Colorado, Nevada, New Mexico, Federal States of Micronesia, Guam, Marshall Islands, Northern Mariana Islands. Hawaii. Region V: Alaska, Idaho, Montana, Oregon, Utah, Washington, Wyoming.

Special Collections—The LINCS Special Collections are one-stop electronic gateways to high-quality resources related to specific subject areas judged to be of high interest to the Adult Education and Literacy Community. Resources include Web-based resources and resources in other media, including descriptions of research and evaluation results, policy-related information, curricula, best practices, fact sheets, and directories. LINCS Special Collections are built around specific content areas (such as English Second Language), specific settings or contexts (such as Workforce Education), and professional development topics (such as the use of Technology in Professional Development).

Appendix #1

LINCS Partners and Affiliates: The success of LINCS as a national information and communication system depends on its use by practitioners in the field. A leading strategy for increasing its use is the LINCS structure. NIFL's national LINCS site is connected to regional sites. Each regional site is connected to key contacts in state sites. State sites are connected to local contacts and programs. In this way, practitioners can begin to use LINCS at a site near to them (their own local area or state), while still having access to the vast resources on the national system. Similarly, people can enter through the national site and find regional, state, and local resources. State and local association with LINCS occurs in two ways—partnership and affiliation.

1. LINCS partners enter into formal agreements with regional technology centers. These agreements spell out what services the partner will receive and what services the partner will render.

a. What LINCS partners receives:

(1) Direct involvement in LINCS work groups, which participate in shaping policies, procedures, and standards for LINCS network.

(2) Server space (if needed) and technical assistance to house a web site.

(3) Discussion list services and server space for all levels.

(4) Programming codes and technical assistance in implementing any of the LINCS tools (calendar/grant databases, search tools, etc.).

(5) Assistance in converting an in-house material database to an Internet usable database format, where it will be added to the LINCS global database.

(6) A directory for agency-specific materials contributed by the partner to the LINCS databases, and search tools that will allow users to search agency-specific materials.

(7) National visibility for the partner's resources through postings on the material database, hot sites, and listings of events.

(8) A web-based template (with major categories and design) for organizing resources, with or without pre-populated resources for teachers, learners, and administrators, search functions, and many other useful features.

(9) Technical assistance for web site development and cataloging.

(10) A self-updateable comprehensive directory of local programs.

(11) Multi-level training (including trainer training) and materials to pass on to local programs and practitioners in their state.

(12) Attendance at LINCS events, with a major portion of the expense to be paid by the LINCS project.

(13) The opportunity to leverage membership in LINCS for other purposes, such as obtaining grants from other sources.

(14) Eligibility to receive mini-grants to help promote LINCS and the integration of technology into teaching and learning, or to produce new web-based resources.

(15) Involvement in facilitated joint interagency projects with the goal of maximizing efficiency and enhancing the capacity of participating agencies.

(16) The opportunity to network with other states in the region to exchange ideas, products, and expertise.

(17) A set of national standards for publishing materials on the Web, including the Adult Literacy Thesaurus (ALT). These standards are key to the foundation of a national system.

b. What state level partners are required to do:

(1) Represent their state and local programs as a part of the LINCS national system.

(2) Have (or be willing to build) the capacity to house and maintain a web site, and a commitment to distribute LINCS resources to practitioners.

(3) Adopt the LINCS Web site template, or, if there are state restrictions, as much of the LINCS template as possible (at a minimum, the major categories, LINCSearch, and LINCS logo).

(4) Contribute locally produced materials for inclusion in the LINCS databases.

(5) Contribute time to catalog locally produced materials and web sites that are on the state LINCS web site so these can be found through the LINCS search. (If partners do not have the resources to catalog items directly, they can contact their regional LINCS for cataloging assistance.)

(6) Promote LINCS services, resources, and standards by making presentations, providing training, establishing projects through mini-grants to expand the integration of technology in teaching and learning, and reporting on these activities quarterly.

(7) Participate in joint technology projects and activities (i.e., regional technology training teams and library teams) with other partners in the state or other states.

(8) Contribute resources to LINCS Special Collections.

(9) Contribute calendar and news items that would be useful for clients outside the agencies' service area.

2. LINCS Affiliates: In addition to LINCS partners, there are LINCS Affiliates. Affiliates are national, state, or local organizations that support LINCS and want to be a part of the expanding LINCS network, but are not considered partners.

a. What national, state and local Affiliates receive:

(1) Recognition on the appropriate LINCS web site (national, regional, or state). .

(2) National visibility for their state and their particular organization resources through the LINCS Hot Sites and LINCS multiple search programs and also publicizing their events through LINCS Calendar of Events.

(3) A directory (specific to their agency) for materials they contribute to the LINCS databases, and search tools that will allow users to search these materials.

(4) Online cataloging training and technical assistance.

(5) A self-updateable comprehensive directory of local programs.

(6) Discussion list services and server space.

(7) Access to online training for use with their constituencies.

(8) Training materials on the use of LINCS and on integrating technology into teaching and learning.

(9) The opportunity to disseminate information about their program or projects through the LINCS network.

(10) The opportunity to catalog their locally produced, full-text documents for identification through the LINCS search engines.

(11) Invitations to attend LINCS events.

(12) The opportunity to be part of LINCS workgroups. ]

(13) The opportunity to network with other LINCS partners and affiliates

b. What national, state, and local Affiliates are encouraged to do:

(1) Contribute locally produced materials from their Web sites for inclusion in the LINCS databases.

(2) Adopt the LINCS Web site template, or at a minimum, the LINCSearch link and LINCS logo.

(3) Promote LINCS services and resources in their state by making presentations about LINCS.

(4) Contribute resources to LINCS Special Collections.

(5) Contribute calendar and news items that would be useful to clients outside the agencies' service area.

Background

The National Institute for Literacy (NIFL), as authorized by Title II of the Workforce Investment Act of 1998, has the legislative mandate to develop a national literacy database. The intent of this mandate is to assure the consolidation and accessibility of scattered and hard-to-access information resources for literacy. (See http://www.nifl.gov/LINCS/about/about.html#history) Now in its fifth full year of operation, LINCS is steadily pursuing its mission of using technology to strengthen the adult basic education and literacy community. Beginning in mid-1994 with a single national site on the Internet, LINCS is now well on its way to fulfilling its goals. For a summary of national and regional LINCS achievements, go to http://www.nifl.gov/lincs/millenium/achievements.html.

Plans for the future: Over the past seven years, the NIFL has provided the leadership and tools to prepare the adult literacy community for the 21st century through major system-building initiatives, including the creation of LINCS and its regional hubs. The NIFL intends to sustain the momentum of building systems that help professionalize the adult literacy community by continuing its initiatives in technology (view the LINCS Vision Statement at http://www.nifl.gov/lincs/millennium/vision.html).

Application Requirements

A. Overview of Regional Technology Centers

The NIFL will award five grants to public and private organizations, or consortia of organizations, for the support of one regional technology center in each of the five designated regions. No more than one grant will be made in each region.

B. Project Narrative

The project narrative is critical and must thoroughly reflect the capacity of the applicant to lead the regional technology effort, and build on the achievements of the previous regional hub and work with LINCS partners and affiliates. The narrative must encompass the full three years of project activities, with detailed plans for Year 1 and milestones for Years 2 and 3. The narrative must clearly describe the applicant's plan for attaining measurable goals and outcomes as identified in each of the sections listed below and propose specific implementation plan. The narrative should not exceed twenty (20) single-spaced pages, or forty (40) double-spaced pages. The narrative may be amplified by material in attachments and appendices, (not exceeding 20 pages) but the body should stand alone to give a complete picture of the project. Proposals that exceed 20 single-spaced pages or 40 double-spaced pages will not be reviewed. The format for the project narrative should follow the order and format of the following selection criteria.

C. Selection Criteria

In evaluating applications for a grant under this competition, the Director uses the following selection criteria. The maximum score for all the criteria in this section is 100 points and the maximum score for each criterion is indicated in parentheses with the criterion.

1. Mission and Strategy (5 Points)

The Director reviews each application to determine the appropriateness of the applicant's stated mission and strategy for the proposed regional center. The applicant must state goals, objectives, and overall expected project achievements for the three year grant period, including:

a. The degree to which the stated mission and strategy for operating a regional center reflect an understanding of the purpose for this project, and NIFL's vision and strategy for LINCS.

b. The degree to which the application demonstrates an understanding of the previous regional hub's strengths and weaknesses; and presents a plan to build on the work of the previous regional hub in enhancing the technological capacity of the region's adult education and literacy community.

c. The extent to which the application provides for a seamless and uninterrupted transition of services and resources from the previous Hub.

d. The quality and coherence of proposed strategies for providing leadership to partners and affiliates at the state and local level in strengthening regional collaboration, and expanding the number of key agencies collaborating at the state and local levels.

e. The degree to which the project will serve the entire adult education and literacy community, including the full range of public and private programs (including libraries, local education agencies, community colleges, volunteer and community-based organizations, etc.).

2. Institutional Capabilities (15 Points)

The Director reviews each application to determine the qualifications and capabilities of the organization to sustain a long-term, high quality, coherent program, and to act as the lead site of a region, including consideration of:

a. The strengths and assets of the applying organization in terms of overall capacity to support adult education and literacy services its base of financial support and commitment of the overall organization to this project.

b. The applicant's successful leadership track record in establishing and implementing a coordinated regional and interstate/interagency plan.

c. The applicant's successful experience in implementing the policies and requirements of a national project at the regional, state, and local level. The applicant must demonstrate how it has built collaborative working relationships with states and local programs;

d. The applicant's experience in training and in applying technology to enhance accessibility of information and ease of communication;

e. The strength of the applicant's partnerships (existing or previous) with private and public entities, especially those that have resulted in leveraging resources and enhancing the applicant's institutional capacity.

f. The capabilities of staff who will oversee project implementation;

g. The applicant's knowledge of current Internet technologies, databases, telecommunications practices, equipment configurations, and maintenance.

h. The applicant's capacity to provide resources—including hardware, software, and training, and technical assistance—to partners and affiliates in state and local programs; and

i. The applicant's capabilities to leverage other funding and resources to sustain the project at the end of the three-year grant period.

3. Plan of Operation (30 Points)

The applicant must develop a three-year plan of operation that addresses both the immediate needs and the future vision and direction of the project. The plan must clearly identify the measurable outcomes that will result from project implementation. The Director reviews each application to determine the quality of the plan of operation, including consideration of the quality of the applicant's plan to use its resources, personnel, and methods to achieve each indicated project objective, especially in the following areas:

a. Building Partnerships and Collaboration:

(1) The quality of the plan to establish effective working relationships with other organizations in the region as required for effective development of the project.

(2) The extent to which the applicant's plan includes sound methods for achieving measurable goals for expanding the number of LINCS partners and affiliates in each member state—especially those dealing with education, labor, and human services—that will further project objectives.

(3) The extent to which the applicant has been able to attract formal support or agreement from the previous hub's consortium members. The applicant should include any formal agreements or support letters as attachments to the application.

(4) The extent that the plan provides a measurable goal for developing local LINCS partnerships and affiliations

(5) The quality of the plan for leveraging additional resources for the project at the regional level and in each state, including a plan to develop partnerships with technology-based educational projects, especially those in the areas of telecommunications, on-line services, networking, and multi-media; and private entities, including telecommunication and high tech business and industry.

b. Facilitating Communication and Community Building: How the applicant will enhance communication throughout the region's adult education and literacy community, across LINCS partners and affiliates, and among practitioners and learners through the use of telecommunication tools (such as discussion lists, bulletin boards, audio/video conferencing and networking, and virtual workspace programs). The applicant should specify—

(a) The kind of tools to be used.

(b) The specific content to be offered.

(c) The degree to which these tools will provide a medium for professional development within and among the partners and affiliates and targeted local programs.

c. Enhancing the knowledge base:

(1) The degree to which the applicant's regional plan for collecting resources with partners and affiliates is comprehensive and will deepen the literacy field's knowledge base and enhance LINCS content. The plan should describe:

(a) Systems or mechanisms that will be developed by the applicant and partners (such as Regional Library Teams) to identify, locate, review (for quality of content and quality of presentation) and organize useful print and on line resources available within and outside the LINCS network and include them in the LINCS databases

(b) A measurable goal for the number of resources to be contributed to the LINCS databases each year by all partners and affiliates, with the focus being on high quality instructional and training resources. The quality of resources should follow LINCS selection criteria standards and guidelines. The applicant should make provisions for including non-print materials, such as audio and video materials, in their entirety.

(c) The type of resources that will be provided to partners, practitioners, and individuals to develop innovative web-based resources.

(2) The extent to which tools and mechanism will be used to identify common strengths and expertise among partners and affiliates in creating rich multi-state agency collections, training packages, and technical assistance.

d. Marketing:

(1) The extent to which the plan for LINCS regional marketing will increase awareness and use of LINCS among adult education and literacy programs and practitioners.

(2) The extent to which resources will be made available to partners and affiliates for enhancing LINCS awareness and use.

(3) The extent to which resources will be used to enhance the use of LINCS among adult learners.

e. Management:

(1) The extent to which the plan of management is effective and ensures proper and efficient overall administration of the project and also in the following areas:

(2) Supporting partners and affiliates in enhancing their technological capacity, implementing project activities, contributing to LINCS, and creating new resources, including their ability to:

(3) Maintain a strong home page that is seamlessly integrated with the LINCS network and that uses LINCS state and local templates.

(4) Provide technical assistance, training, and high quality, updated resources to local adult education and literacy programs.

(5) Provide for efficient use of regional resources by creating project-based multi-partner collaborations and building on the strength and expertise of partners and affiliates.

(6) Implement new requirements or standards developed by NIFL in concert with regional technology centers to assure uniformity across the LINCS network.

(7) The quality of the strategy and timeline for implementing a formal agreement between the applicant, partners, and affiliates that clearly identifies the rights, roles, and responsibilities of each partner and affiliate with regard to all project activities.

(8) How the applicant will provide for expanding the roles of partners and affiliates in carrying out project activities (i.e., by providing states with resources and funds appropriate to their level of need and expertise), as well as in monitoring project implementation.

(9) The quality of the tools that will be used to maintain communication among the partners and affiliates.

(10) How the applicant will help partners and affiliates leverage other sources of financial support, market their achievements, and develop active state-level partnerships, especially with state education agencies.

4. Training and Technical Assistance (15 Points)

The applicant should present a regional technology training and technical assistant plan. The Director reviews each application to determine the quality and design of the plan, including:

a. The extent to which the applicant demonstrates a commitment to provide technical support, training, and equipment to partners and affiliates;

b. The extent to which the goals of the proposed training are measurable, with clear plan on how the impact of such training will be assessed;

c. The extent to which the training plan, methods, mechanisms, and structures are likely to be effective in achieving stated measurable goals;

d. The extent to which the applicant will use the information and expertise of other Regional LINCS in developing training resources and approaches; and

e. The extent to which the proposed training content and plan is comprehensive and at appropriate levels, including:

(1) How the proposed plan addresses the need for raising awareness and educating practitioners, through broad-based training, about resources available through LINCS, and will build greater knowledge and skills in using the LINCS technology for teaching and learning and interaction with others.

(2) How targeted training models, methods, mechanisms, and structures will result in integrating technology in teaching and learning within the region. The applicant's timeline for a formal agreement with partners should include an agreement to provide an implementation plan for technology integration in the first quarter of the award. At the minimum the formal agreement should cover the following issues:

(a) How the applicant and LINCS partners will assess the existing level of integration in each state;

(b) How the applicant will identify and disseminate information about other state and local efforts in integrating technology into teaching and learning;

(c) How the applicant will support partners and/or affiliates in developing the technology integration plan;

(d) The resources that will be recruited for the development of a three year plan;

(e) The kind of partnership that will be developed with other regional and state agencies involved in similar efforts;

(f) How the applicant will evaluate progress in integrating technology;

(g) How the training plan will be incorporated in the overall state or partners' staff development plan;

(h) How the training content, tools, and methods developed will train learners in using LINCS;

(i) How the training plan provides for cross-state collaboration (i.e., by establishing regional trainer teams).

(j) How the methods, mechanisms, structures, and materials provided for training—both on-line and off-line—can be used to meet the needs of geographically diverse populations and be replicated, maintained, easily accessible, and updated during and beyond the life of this project.

(k) What innovative technologies will be used to provide easy and efficient methods of delivering training resources to the adult education and literacy community, including—

(i) The extent to which the applicant will provide technical assistance, funding, and other resources to partners and affiliates.

(ii) The extent to which the applicant will provide technical assistance to the end users at varying levels of technical sophistication.

5. Technical Soundness (5 Points)

The Director reviews each application to determine the technical soundness of the proposed project, including consideration of:

a. The extent to which the applicant demonstrates knowledge of current Internet technologies, databases, telecommunications practices, equipment configurations, and maintenance;

b. The extent to which the applicant demonstrates a thorough knowledge of literacy data collections, and dissemination, as well as the LINCS web template, selection criteria, and cataloging standards;

c. The extent to which it will mirror the LINCS information structure, system architecture, and design.

d. The extent to which the applicant demonstrates a commitment to provide technical support, training, and equipment to partners and affiliates.

e. The extent to which the applicant will provide for the provision of hardware, software, and a networking system that will:

(1) Address issues of interpretability and scalability,

(2) Support using audio-video, multi-media, and interactive Internet tools, and

(3) Keep pace with new development in technology.

f. Assurances that the following will be in place—

(1) An electronic system that consists of a UNIX-based server capable of providing the following services for the regional technology training center, its partners, and affiliates.

(a) World Wide Web (WWW) HTTP services;

(b) Internet Electronic Mail (SMTP) services;

(c) File Transfer Protocol (FTP) services;

(d) List (listproc, majordomo) services;

(2) A dedicated Internet connection of sufficient capacity (a minimum of up to T1) to allow sustained usage of the site, be able to transfer an average web page at a rate of 20 kilobytes in three seconds to a client web browser at NIFL during peak usage times, and also be able to deliver quality audio and video products at useable rates to multiple concurrent users;

(3) Maintain information in both HTML documents and text and pdf format.

(4) Serve as a server to house state and local program web sites, any LINCS Special Collections located in the region, Audio and Video server; and communication server (for activities such as online chats, discussion lists, and incubators).

6. Budget and Cost Effectiveness (10 Points)

The Director reviews each application to determine the extent to which the applicant describes plans for managing the project budget and ensuring cost-effectiveness, including—

a. Provisions for ensuring the most efficient and cost-effective use of project funds.

b. Provisions for identifying and securing additional funds to continue and expand the project beyond the end of the grant.

c. A project time line that consists of a table or diagram listing major tasks or milestones and including estimates of funds, time, training schedules, formal agreements with partners and affiliates, personnel, facilities, and equipment allocated to each program area, as well as the timing of progress and other reports, meetings, and other similar events.

Please note that overhead for this project is restricted as per EDGAR CPR 75-562.

7. Evaluation Plan (10 Points)

The Director reviews each application to determine the quality of the evaluation plan for the project, including consideration of:

a. The quality of methods and mechanisms to be used to document and evaluate progress in relation to the project's mission and goals, including use of on-line methods (such as web tools) to collect and analyze data on the effectiveness of the resources presented.

b. The strength of the applicant's statement of measurable outcomes for all project goals; and the quality of methods that will be used to document and evaluate the impact of the project on:

(1) Partners, affiliates, and the broader literacy community.

(2) Improving professional development and instruction.

(3) Integrating technology in teaching and learning.

(4) Raising awareness of LINCS and its use.

[The grantee must commit to working with NIFL to incorporate GPRA requirements into the evaluation plan.]

8. Quality of Key Personnel (10 Points)

The Director reviews each application to determine the quality of key personnel for all project activities, including consideration of:

a. The qualifications of the project director with respect to carrying out the purposes of this grant;

b. The qualifications of other key personnel the applicant,

c. The experience and training of key personnel in leading a consortium of states and working in fields related to project objectives; and

d. The applicant's policy, as part of its nondiscriminatory employment practices, to ensure that its personnel are selected for employment without regard to race, color, national origin, religion, gender, age, or disability.

Additional Application Requirements

The application shall include the following:

Project Summary: The proposal must contain a 200-word summary of the proposed project suitable for publication. It shall not be an abstract of the proposal, but rather a self-contained description of the activities that would explain the proposal. The summary should be free of jargon and technical terminology, and should be understandable by a non-specialist reader.

Budget Proposal: ED Form 524 must be completed and submitted with each application. The form consists of Sections A, B, and C. On the back of the form are general instructions for completion of the budget. All applicants must complete Sections A and C. If Section B is completed, include the nature and source of non-federal funds. Attach to Section C a detailed explanation and amplification of each budget category. Included in the explanation should be complete justification of costs in each category. Additional instructions include the following:

• Prepare an itemized budget narrative for the project as a whole.

• Personnel items should include names (titles or position) of key staff, number of hours proposed, and applicable hourly rates.

• Include the cost, purpose, and justification for travel, equipment, supplies, contractual and other. Training stipends are not authorized under this program.

• Clearly identify in all instances contributed costs and support from other sources, if any.

• Show budget detail for financial aspects of any cost-sharing or joint or cooperative funding.

Disclosure of Prior NIFL Support: If any consortium member has received NIFL funding in the past 2 years, the following information on the prior awards is required.

• NIFL award number, amount and period of support;

• A summary of the results of the completed work; and

• A brief description of available materials and other related research products not described elsewhere.

If the applicant has received a prior award, the reviewers will be asked to comment on the quality of the prior work described in this section of the proposal.

Reporting: In addition to working closely with the National Institute for Literacy, the applicant will be required to submit Quarterly Performance reports, which are to be brief, 3-4 page reports of progress; a final annual report of activities replaces the 4th quarterly report. Due: Within 30 days at the end of each quarter. Detailed specifications for the reports will be provided to the consortium within three months after the awards are made.

Instructions for Transmittal of Applications

To apply for a cooperative agreement grant—

1. Mail the original and seven (7) copies of the application on or before the deadline date of July 15, 2000 to: National Institute for Literacy, 1775 I Street, NW., Suite 730, Washington, DC 20006, Attention: Jaleh Behroozi Soroui (CFDA NO. 84.257T)

2. Hand deliver the application by 4:30 p.m. (Washington, DC time) on the deadline date to the address above.

a. An applicant must show one of the following as proof of mailing:

(1) A legibly dated U.S. Postal Service postmark.

(2) A legible mail receipt with the date of mailing stamped by the U.S. Postal Service.

(3) A dated shipping label, invoice, or receipt from a commercial carrier.

b. If an application is mailed through the U.S. Postal Service, the Director does not accept either of the following as proof of mailing:

(1) A private metered postmark.

(2) A mail receipt that is not dated by the U.S. Postal Service.

Notes: (1) The U.S. Postal Service does not uniformly provide a dated postmark. Before relying on this method, an applicant should check with the local post office. (2) The NIFL will mail a Grant Applicant Receipt Acknowledgment to each applicant. If an applicant fails to receive the notification of application receipt within 15 days from the date of mailing the application, the applicant should call the NIFL at (202) 233-2055. (3) The applicant must indicate on the envelope and in Item 10 of the application for Federal Assistance (Standard Form 424) the CFDA number of the competition under which the application is being submitted.

Electronic Access to This Document

You may view this document, as well as National Institute for Literacy and Department of Education documents published in the Federal Register, in text or Adobe Portable Document Format (PDF) on the Web at or from the following sites:

http://ocfo.ed/gov/fedreg.htm

http://www.nifl.gov/nifl/news_events.html

http://www.nifl.gov/lincs/2000_rfp.html

To view the PDF version, you must have the Adobe Acrobat Reader Program. Note:The official version of this document is the document published in the Federal Register. Free Internet access to the official edition of the Federal Register and the Code of Federal Regulations is available on GPO Access at http://www.access.gpo.gov/nara/index.html

Application Instructions and Forms

The appendix to this application is divided into three parts plus a statement regarding estimated public reporting burden and various assurances and certifications. These parts and additional materials are organized in the same manner that the submitted application should be organized. Additional forms for the completion of this application are available on-line at http://octo.ed.gov/grnt/appforms. The parts and additional materials are as follows:

Part I: Application for Federal Assistance [Standard Form 424 (Rev. 4-94)) and instructions].

Part II. Budget Information [Non-Construction Programs (ED Form 524) and instructions].

Part III: Application Narrative [Additional Materials: Estimated Public Reporting Burden].

Assurances-Non—Construction Programs (Standard Form 424B).

Certification Regarding Lobbying; Debarment, Suspension, and Other Responsibility Matters; and Drug-Free Workplace Requirements (ED 80-0013).

Certification Regarding Debarment, Suspension, Ineligibility and Voluntary Exclusion: Lower Tier Covered Transactions (ED 80-0014, 9/90) and instructions.

Note: ED 80-0014 is intended for the use of recipients and should not be transmitted to the NIFL.

Disclosure of Lobbying Activities (Standard Form LLL) (if applicable) and instructions. An applicant may submit information on a Photostat copy of the application and budget forms, the assurances and the certifications. However, the application form, the assurances, and certifications must each have an original signature. No award can be made unless a complete application has been received.

Instructions for Estimated Public Reporting Burden

According to the Paperwork Reduction Act of 1995, no persons are required to respond to a collection of information unless it displays a valid OMB control number. The valid OMB control number for this information is under OMB control number 3430-0007, Expiration date: 06/30/2003. The time required to complete this information collection is 55 hours per response, including the time for reviewing instructions, searching existing data sources, gathering and disseminating the data needed, and completing and reviewing the collection of information. If you have any comments concerning the accuracy of the time estimate or suggestions for improving this form, please write to: the National Institute for Literacy, 1775 I Street, NW., Suite 730, Washington, DC 20006.

Dated: June 5, 2000.
Andrew J. Hartman,
Director, NIFL.

[FR Doc. 00-14548 Filed 6-8-00; 8:45 am]

BILLING CODE 6055-01-U